DEPARTMENT OF ENERGY

Federal Energy Regulatory Commission

[Docket No. AD13-9-000]

Hydropower Regulatory Efficiency Act of 2013; Notice of Workshop

The Federal Energy Regulatory Commission (FERC or Commission) staff will hold a workshop on March 30, 2017, from 12:00 p.m. to 5:00 p.m. Eastern Time in the Commission Meeting Room at 888 First Street NE., Washington, DC 20426. The purpose of the workshop is to solicit public comment on the effectiveness of the tested two-year pilot process as required by section 6 of the Hydropower Regulatory Efficiency Act of 2013. The workshop will be open to the public and all interested parties are invited to participate. The workshop will be led by Commission staff, and may be attended by one or more Commissioners. An agenda for the workshop, including a list of issues for commenter and panelist consideration, is attached to this notice.

This workshop will be transcribed. Transcripts of the workshop will be available for a fee from Ace-Federal Reporters, Inc. at (202) 347-3700. A free webcast will be available through www.ferc.gov. Anyone with internet access who wants to view this event can do so by navigating to the Calendar of Events at www.ferc.gov and locating this event in the Calendar. The event listing will contain a link to the webcast. The Capitol Connection provides technical support for webcasts and offers the option of listening to the workshop via phone-bridge for a fee. If you have any questions, visit www.CapitolConnection.org or call (703) 993-3100.

Registration is not required, but is encouraged. Please register at https://www.ferc.gov/whats-new/registration/03-30-17-form.asp.

In addition to the webcast, a limited number of phone lines will be available on a first-come, first-served basis for those who wish to participate via teleconference. If you would like to participate via teleconference, please contact Ryan Hansen at (202) 502-8074 or ryan.hansen@ferc.gov by February 22, 2017 to reserve a line. Please put “Telephone line for Hydro Workshop” in the subject line of your email.

Commission workshops are accessible under section 508 of the Rehabilitation Act of 1973. For accessibility accommodations, please send an email to accessibility@ferc.gov, call (866) 208-3372 (toll free) or (202) 208-8659 (TTY), or send a FAX to (202) 208-2106 with the required accommodations.

Those who wish to file written comments may do so within 75 days of this notice, or by April 14, 2017. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number AD13-9-000.

All comments will be placed in the Commission's public files and will be available for review at the Commission in the Public Reference Room or may be viewed on the Commission's Web site at www.ferc.gov using the eLibrary link. Enter AD13-9 in the docket number field to access documents. For assistance, please contact FERC Online Support.

For more information about this workshop, please contact:

Sarah Salazar (Technical Information), Office of Energy Projects, Federal Energy Regulatory Commission, 888 First Street NE., Washington, DC 20426, (202) 502-6863, sarah.salazar@ferc.gov

Sarah McKinley (Logistical Information), Office of External Affairs, Federal Energy Regulatory Commission, 888 First Street NE., Washington, DC 20426, (202) 502-8368, sarah.mckinley@ferc.gov

Dated: January 30, 2017.
Kimberly D. Bose,
Secretary.

[FR Doc. 2017-02290 Filed 2-2-17; 8:45 am]

BILLING CODE 6717-01-P